DEPARTMENT OF COMMERCE

[I.D. 080702A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Surf Clam/Ocean Quahog Transfer Log.

Form Number(s): None.

OMB Approval Number: 0648-0238.

Type of Request: Regular submission.

Burden Hours: 52.

Number of Respondents: 206.

Average Hours Per Response: 5 minutes.

Needs and Uses: Persons holding Individual Transferable Quotas (ITQs) in the surf clam/ocean quahog fishery are annually issued a quota for harvest. To facilitate enforcement and tracking, sequentially numbered tags are issued to each owner on an annual basis and all cages of product must be tagged, with tag use reported by both the harvesting vessel and the purchasing dealer. Individual allocations are transferable, and owners may transfer their allocation on a permanent basis or may transfer tags to other vessel owners to use on a temporary basis. This transferability means that the allocation ownership changes constantly, and the ITQ Allocation Transfer Form is used by allocation holders to register these transfers with the National Marine Fisheries Service. Once processed, new allocation permits are issued and all databases are updated. The information registered is used for enforcement purposes.

Affected Public: Business or other for-profit organizations, individuals or households.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 5, 2002.
Gwellnar Banks,,
Management Analyst, Office of the Chief Information Officer.

[FR Doc. 02-20378 Filed 8-9-02; 8:45 am]

BILLING CODE 3510-22-S